DEPARTMENT OF AGRICULTURE

Food and Nutrition Service

Agency Information Collection Activities: Revision of Approved Information Collection; Comment Request—Supplemental Nutrition Assistance Program (SNAP): Operating Guidelines, Forms and Waivers

AGENCY: Food and Nutrition Service (FNS), USDA.

ACTION: Notice.

SUMMARY: In accordance with the Paperwork Reduction Act of 1995, this notice invites the general public and other public agencies to comment on this information collection. This is a revision of a currently approved collection. This information collection package consists of five components of State agency reporting and/or recordkeeping: a budget projection statement, a program activity report, State plans of operation updates, waiver requests and other plans and submissions such as advance planning documents for information systems and for electronic benefit transfer (EBT) systems.

DATES: Written comments must be received on or before January 13, 2017.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility and clarity of the information to be collected; and (d) ways to minimize the burden of the collection of information on those who are to respond, including use of appropriate automated, electronic, mechanical or other technological collection techniques or other forms of information technology.

Comments may be sent to: Ralph Badette, Food and Nutrition Service, U.S. Department of Agriculture, 3101 Park Center Drive, Room 818, Alexandria, VA 22302. Comments will also be accepted through the Federal eRulemaking Portal. Go to http://www.regulations.gov, and follow the online instructions for submitting comments electronically.

All written comments will be open for public inspection at the office of the Food and Nutrition Service during regular business hours (8:30 a.m. to 5:00 p.m. Monday through Friday) at 3101 Park Center Drive, Room 810, Alexandria, Virginia 22302.

All responses to this notice will be summarized and included in the request for Office of Management and Budget approval. All comments will be a matter of public record.

FOR FURTHER INFORMATION CONTACT: Requests for additional information or copies of this information collection should be directed to Ralph Badette at 703-457-7717.

SUPPLEMENTARY INFORMATION:

Title: Operating Guidelines, Forms and Waivers.

OMB Number: 0584-0083.

Forms: FNS-366A; FNS-366B; SNAP Waiver Request Form

Expiration Date: April 30, 2017.

Type of Request: Revision of a currently approved collection.

Abstract: Section 16(a) of the Food and Nutrition Act of 2008 (the Act) authorizes 50 percent Federal reimbursement for State agency costs to administer the program. 7 CFR 272.2(a) of SNAP regulations requires that State agencies plan and budget program operations and establish objectives for the next year. The basic components of the State Plan of Operation are the Federal/State Agreement, the Budget Projection Statement (FNS-366A) and the Program Activity Statement (FNS-366B) (7 CFR 272.2(a)(2)). Under 7 CFR 272.2(c), the State agency shall submit to FNS for approval a Budget Projection Statement (which projects total Federal administrative costs for the upcoming fiscal year) and a Program Activity Statement (which provides program activity data for the preceding fiscal year). In addition, certain attachments to the plan as specified in subparagraphs (c) and (d) are to be submitted. As specified in subparagraph (f), State agencies only have to provide FNS with changes to these attachments as they occur. Consequently, these attachments are considered State plan updates. Under Section 11(o) of the Act each State agency is required to develop and submit plans for the use of automated data processing (ADP) and information retrieval systems to administer SNAP. Section 16(a) of the Act authorizes partial Federal reimbursement of State costs for State ADP systems that the Secretary determines will assist meeting the requirements of the Act, meets conditions prescribed by the Secretary, are likely to provide more efficient and effective administration of the program, and are compatible with certain other Federally-funded systems.

Under 7 CFR 277.18(c)(1) of SNAP regulations, State agencies must obtain prior written approval from FNS when it plans to acquire ADP equipment with a total acquisition cost of $5 million or more in Federal and State funds. The State agency must submit an Advance Planning Document (APD) prior to acquiring planning services and an Implementation APD prior to acquiring ADP equipment or services. Additionally, State agencies administering SNAP may submit formal written requests, SNAP waiver requests, to obtain approval from FNS to deviate from a specific program rule or regulation. Current procedures require that in order for FNS to approve a SNAP waiver request, the State agency must submit the SNAP Waiver Request Form via the SWIM application.

In 2014, FNS submitted a change justification for the SNAP Recipient Trafficking Data Survey, which added 26.5 hours to this burden. This survey is no longer being conducted, and the associated hours are removed from this collection with this notice. The reporting burden for forms FNS-366A and FNS-366B was merged in 2015 with the burden for the Food Programs Reporting System (OMB control number 0584-0594, expiration date September 30, 2019); therefore, reporting hours associated with these forms are removed from this collection with this notice. However, recordkeeping requirements for these forms remains in this OMB Control Number.

Burden Estimates

The burden within this collection consists of reporting and recordkeeping burden for the State Plan of Operation Updates and APD Plans or Updates; reporting burden for SNAP Waiver Requests via the SNAP Workflow Information Management (SWIM) system; and recordkeeping burden for forms FNS-366A and FNS-366B. The current burden is 2,754 hours. The revised estimated burden for this collection is 1,120.95 hours (1,088.62 reporting hours and 32.33 recordkeeping hours). This results in a decrease of 1,633 hours, which is a result of removing the reporting burden for forms FNS-366A and FNS-366B and the SNAP Trafficking Survey from this collection. The calculation of the burden for each of these components is described below:

Reporting

Reporting Burden Estimates:

Affected Public: State, Local and Tribal Government Agencies.

Estimated Number of Respondents: 53.

Estimated Number of Responses per Respondent: 8.35.

Estimated Total Annual Responses: 442.3.

Estimated Reporting Time per Response: 3.36.

Estimated Annual Reporting Burden Hours: 1,088.62.

State Plan of Operation Updates. Fifty-three (53) State agencies submit 1 response annually for a total of 53 annual responses. The reporting burden for submission of updates to State Plans of Operation is 6.58 hours per respondent, resulting in estimated burden hours of 348.99 (53 × 6.5847 = 348.99).

APD Plans or Updates. We estimate that up to 53 State agencies may submit on an average of four (4) APD, plan, or update submission for a total of 212 annual responses at an average estimate of 2.5 hours per respondent. The reporting burden is 530 hours.

SNAP Waiver Request Form. FNS estimates that out of 53 State agencies 45 State will submit 3.94 of the three identified waivers annually for a total number of 177 Waivers annually. Completion and submission of these waivers take approximately 1 hour for a total of 177 burden hours annually.

Affected public | Forms | Number of respondents | Frequency of response | Total annual responses | Time per response (hrs) | Annual reporting burden hours
State Agencies | Plan of Operation Updates | 53 | 1 | 53 | 6.58 | 348.99
| Other APD Plan or Update | 53 | 4 | 212 | 2.5 | 530
| SNAP Waiver Request Form (SWIM) | 45 | 3.94 | 177.3 | 1 | 177.3
Reporting Total Burden Estimates |  | 53.00 | 2.98 | 442.3 | 3.36 | 1,056.29

Recordkeeping

Recordkeeping Burden Estimates:

Affected Public: State, Local and Tribal Government Agencies.

Estimated Number of Recordkeepers: 53.

Estimated Number of Records per Recordkeepers: 6.84.

Estimated Total Annual Records: 363.

Estimated Recordkeeping time per Recordkeepers: 0.07.

Estimated Annual Recordkeeping Burden Hours: 31.77.

FNS-366A. State agencies are required to submit to FNS for approval a Budget Projection Statement, Form FNS-366A, which includes projections of the total Federal costs for major areas of program operations. There is a total of 53 recordkeepers for each activity. Each State agency submits 1 response annually for a total of 53 annual responses. A copy is maintained for 3 years. It takes approximately 0.05 minutes to maintain each record. Total annual recordkeeping burden for FNS-366A is estimated at 2.65 hours annually per recordkeeper.

FNS-366B. State agencies are required to submit to FNS a Program Activity Statement, Form FNS-366B, providing a summary of program activity for the State agency's operations during its preceding fiscal year. Each State agency submits 1 response annually for a total of 53 annual responses; each record takes approximately 0.05 minutes to maintain. The annual recordkeeping burden for FNS-366B is estimated annually at 2.65 hours per recordkeeper.

State Plan of Operation Updates. Each State agency submits 1 response annually for a total of 45 annual responses; each record takes approximately 0.07 minutes to maintain. The annual recordkeeping burden for updates to State Plans of Operation as attachments to the FNS-366B is 3.15 hours per record-keeper.

Other APD Plans and Updates. FNS estimated that up to 53 State agencies may submit an average of 4 APD, Plan, or Update submissions and approximately 212 records at an average estimate of 0.11 minutes per record keeper for an estimated total of 23.32 recordkeeping burden for this activity hours.

Affected public | (b) Form No. or activity | (c ) Number recordkeepers | (d) Number records per respondent | (e) Estimate total annual records (cxd) | (f) Hours per recordkeeper | (g) Total burden (exf)
RECORDKEEPING
State Agencies | FNS-366A | 53 | 1 | 53 | 0.05 | 2.65
| FNS-366B | 53 | 1 | 53 | 0.05 | 2.65
| Plan of Operations Updates | 45 | 1 | 45 | 0.07 | 3.15
| Other APD Plan or Update | 53 | 4 | 212 | 0.11 | 23.32
Recordkeeping Total Burden Estimates |  | 53 | 1.75 | 363 | 0.07 | 31.77

Dated: October 26, 2016.
Telora T. Dean,
Acting Administrator, Food and Nutrition Service.

[FR Doc. 2016-27334 Filed 11-10-16; 8:45 am]

BILLING CODE 3410-34-P